DEPARTMENT OF HEALTH AND HUMAN SERVICES

Centers for Medicare & Medicaid Services

[CMS-1473-NC]

RIN 0938-AL94

Medicare Program; Home Health Prospective Payment System Rate Update for FY 2004

Correction

In notice document 03-16397 beginning on page 39763 in the issue of Wednesday, July 2, 2003 make the following correction:

1. On page 39772, in the table, under the heading “Wage index”, in the 15th entry “.0944” should read “1.0944”.

2. On page 39779, in the same table, under the same heading, in the fourth entry, “.7983” should read “.7923”.

[FR Doc. C3-16397 Filed 9-29-03; 8:45 am]

BILLING CODE 1505-01-D